DEPARTMENT OF AGRICULTURE

Commodity Credit Corporation

Notice of Request for a Revision of a Currently Approved Information Collection

AGENCY: Commodity Credit Corporation, USDA.

ACTION: Notice and request for comments.

SUMMARY: In accordance with the Paperwork Reduction Act of 1995, this notice announces the intention of the Commodity Credit Corporation (CCC) to request a revision of a currently approved information collection in support of the CCC's Dairy Export Incentive Program (DEIP) based on re-estimates. This information collection has applied to CCC's Export Enhancement Program (EEP) as well as the DEIP. However, the EEP has been repealed by the Food, Conservation, and Energy Act of 2008. The program regulations at 7 CFR 1494 will be updated to delete references to the EEP.

DATES: Comments on this notice must be received by December 7, 2009.

Additional Information or Comments: Contact Mark Rowse, Director, Credit Programs Division, Office of Trade Programs, Foreign Agricultural Service, U.S. Department of Agriculture, AgBox 1025, Washington, DC 20250-1025, or by telephone at (202) 720-0624.

SUPPLEMENTARY INFORMATION: Title: CCC's Dairy Export Incentive Program (DEIP).

OMB Number: 0551-0028.

Expiration Date of Approval: January 31, 2010.

Type of Request: Revision of a currently approved information collection.

Abstract: The major objective of the DEIP is to expand U.S. dairy product exports by paying cash to exporters as bonuses, allowing them to sell U.S. dairy products in targeted countries at competitive prices. Currently, 102 countries and 3 country regions are targeted export destinations and 650 exporters are eligible to participate under the DEIP. Under 7 CFR part 1494, exporters are required to submit the following: (1) Information required for program participation (section 1494.301), (2) performance security (section 1494.401), (3) export sales information in connection with applying for a CCC bonus (section 1494.501), and (4) evidence of export and related information (section 1494.701). In addition, each exporter must maintain accurate records showing sales and deliveries of the eligible commodity exported in connection with an agreement made under the DEIP, as outlined in section 1494.1001. The information collected is used by CCC to manage, plan for and evaluate the use of, and account for Government resources. The reports and records are required to ensure the proper and judicious use of public funds.

Estimate of Burden: The public reporting burden for these collections is estimated to average 41 minutes per response.

Respondents: Exporters of U.S. agricultural commodities, banks or other financial institutions, producer associations, export trade associations, and U.S. Government agencies.

Estimated Number of Respondents: 10 per annum.

Estimated Number of Responses per Respondent: 81 per annum.

Estimated Total Annual Burden on Respondents: 553.5 hours.

Copies of this information collection can be obtained from Tamoria Thompson-Hall, the Agency Information Collection Coordinator, at (202) 690-1690.

Requests for comments: Send comments regarding (a) Whether the proposed collection of information is necessary for the proper performance of the functions of the agency, including whether the information will have practical utility; (b) the accuracy of the agency's estimate of the burden of the proposed collection of information; (c) ways to enhance the quality, utility and clarity of the information to be collected; and (d) ways to minimize the burden of the collection of information on those who are to respond, including through the use of automated, electronic, mechanical, or other technological collection techniques or other forms of information technology. Comments may be sent to Mark Rowse, Director, Credit Programs Division, Foreign Agricultural Service, U.S. Department of Agriculture, AgBox 1025, Washington, DC 20250-1025, or to the Desk Officer for Agriculture, Office of Information and Regulatory Affairs, Office of Management and Budget, Washington, DC 20503. Persons with disabilities who require an alternative means for communication of information (Braille, large print, audiotape, etc.) should contact USDA's Target Center at (202) 720-2600 (voice and TDD). All responses to this notice will be summarized and included in the request for OMB approval. All comments will also become a matter of public record.

Signed at Washington, DC, on September 22, 2009.
John D Brewer,
Acting Administrator, Foreign Agricultural Service, and Acting Vice President, Commodity Credit Corporation.

[FR Doc. E9-24181 Filed 10-6-09; 8:45 am]

BILLING CODE 3410-10-P